DEPARTMENT OF TRANSPORTATION

Surface Transportation Board

Notice and Request for Comments

AGENCY: Surface Transportation Board.

ACTION: 60-day notice of request for extension: Notifications of Trails Act Agreement and Substitute Sponsorship.

SUMMARY: As required by the Paperwork Reduction Act of 1995, 44 U.S.C. 3501-3519 (PRA), the Surface Transportation Board (STB or Board) gives notice of its intent to seek from the Office of Management and Budget (OMB) an extension of approval for the collection: Notifications of Trails Act Agreement and Substitute Sponsorship.

Under 16 U.S.C. 1247(d) and its regulations, the STB will issue a Certificate of Interim Trail Use (CITU) or Notice of Interim Trail Use (NITU) to a prospective trail sponsor who offers to assume managerial, tax, and legal responsibility for a right-of-way that a rail carrier would otherwise abandon. The CITU/NITU permits parties, for 180 days, to negotiate for a railbanking agreement. If parties reach an agreement, the CITU/NITU automatically authorizes railbanking/interim trail use. If no agreement is reached, then upon expiration of the negotiation period, the CITU/NITU authorizes the railroad to exercise its option to fully abandon the line without further action by the Board.

Pursuant to 49 CFR 1152.29, parties must jointly notify the Board when a trail use agreement has been reached, and must identify the exact location of the right-of-way subject to the agreement, including a map and milepost marker information. The rules also require parties to file a petition to modify or vacate the CITU/NITU if the trail use agreement applies to less of the right-of-way than covered by the CITU/NITU. Finally, the rules require that a substitute trail sponsor must acknowledge that interim trail use is subject to restoration and reactivation at any time.

Comments are requested concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

Description of Collection

Title: Notifications of Trails Act Agreement and Substitute Sponsorship

OMB Control Number: 2140-0017.

STB Form Number: None.

Type of Review: Extension without change.

Respondents: Parties to an interim trail use agreement; substitute trail sponsors.

Number of Respondents: 40.

Estimated Time per Response: 1 hour.

Frequency: On occasion.

Total Burden Hours (annually including all respondents): 40 hours.

Total “Non-hour Burden” Cost: None identified. Filings are submitted electronically to the Board.

Needs and Uses: The submissions ensure that the affected public and the agency will have notice whenever a trails use agreement is reached or modified. They also ensure that any trail sponsor, including any substitute trail sponsor, acknowledges that interim trail use is subject to restoration and reactivation at any time.

Retention Period: Information in this report will be maintained in the Board's files for 10 years, after which it is transferred to the National Archives.

DATES: Comments on this information collection should be submitted by May 1, 2015.

ADDRESSES: Direct all comments to Chris Oehrle, Surface Transportation Board, 395 E Street SW., Washington, DC 20423-0001, or to PRA@stb.dot.gov. When submitting comments, please refer to “Notifications of Trails Act Agreement and Substitute Sponsorship.” For further information regarding this collection, contact PRA@stb.dot.gov. [Federal Information Relay Service (FIRS) for the hearing impaired: (800) 877-8339.] Filings made in responses to this collection are available on the Board's Web site at www.stb.dot.gov.

SUPPLEMENTARY INFORMATION: Under the PRA, a federal agency conducting or sponsoring a collection of information must display a currently valid OMB control number. A collection of information, which is defined in 44 U.S.C. 3502(3) and 5 CFR 1320.3(c), includes agency requirements or requests that persons submit reports, keep records, or provide information to the agency, third parties, or the public. Under § 3506(c)(2)(A) of the PRA, federal agencies are required to provide, prior to an agency's submitting a collection to OMB for approval, a 60-day notice and comment period through publication in the Federal Register concerning each proposed collection of information, including each proposed extension of an existing collection of information.

Dated: February 25, 2015.
Jeffrey Herzig,
Clearance Clerk.

[FR Doc. 2015-04250 Filed 2-27-15; 8:45 am]

BILLING CODE 4915-01-P